COMMISSION ON CIVIL RIGHTS

Agenda and Notice of Public Meeting of the Montana Advisory Committee

Date and Time: Friday, April 24, 2015 at 1:00 p.m. (MDT).

Place: Via Teleconference. Public Dial-in 1-877-446-3914; Listen Line Code: 5374479

TDD: Dial Federal Relay Service 1-800-977-8339 give operator the Public Dial-In and Listen Line Code identified above.

Notice is hereby given, pursuant to the provisions of the rules and regulations of the U.S. Commission on Civil Rights (Commission) and the Federal Advisory Committee Act (FACA) that a planning meeting of the Montana Advisory Committee to the Commission will convene via conference call. The purpose of the meeting is to continue discussion of civil rights issues in the state and select issues for further study.

The meeting will be conducted via conference call. Members of the public may listen to the discussion by calling the toll-free number public dial-in number and providing the listen line code identified above. Persons with hearing impairments may also following the proceedings by first calling the Federal Relay Service number listed above and providing the toll-free number public dial-in number and the listen line code identified above. Callers will incur no charges for calls they initiate over land line connections to the toll-free public dial-in number. Callers may incur charges for calls they initiate over wireless lines; the Commission will not refund any incurred charges.

Members of the public are entitled to submit written comments. The comments must be received in the regional office by Monday, May 25, 2015. Comments may be mailed to the Rocky Mountain Regional Office, U.S. Commission on Civil Rights, 1961 Stout Street, Suite 13-201, Denver, CO 80294 or faxed to (303) 866-1040, or emailed to Evelyn Bohor at ebohor@usccr.gov. Persons who desire additional information may contact the Rocky Mountain Regional Office at 303-866-1040.

Records generated from this meeting may be inspected and reproduced at the Rocky Mountain Regional Office, as they become available, both before and after the meeting. Persons interested in the work of this advisory committee are advised to go to the Commission's Web site, www.usccr.gov, or to contact the Rocky Mountain Regional Office at the above phone number, email or street address.

The meetings will be conducted pursuant to the provisions of the rules and regulations of the Commission and FACA.

Dated: March 30, 2015.
David Mussatt,
Chief, Regional Programs Coordination Unit.

[FR Doc. 2015-07652 Filed 4-2-15; 8:45 am]

BILLING CODE 6335-01-P